DEPARTMENT OF COMMERCE

International Trade Administration

[A-122-822]

Certain Corrosion-Resistant Carbon Steel Flat Products from Canada: Final Results of Antidumping Duty Administrative Review

AGENCY: Import Administration, International Trade Administration, U.S. Department of Commerce.

SUMMARY: On September 9, 2005, the Department of Commerce (Department) published the preliminary results of its administrative review of the antidumping duty order on certain corrosion-resistant carbon steel flat products (CORE) from Canada. See Certain Corrosion-Resistant Carbon Steel Flat Products from Canada: Preliminary Results of Antidumping Duty Administrative Review, 70 FR 53621 (September 9, 2005) (Preliminary Results). The review covers shipments of this merchandise to the United States for the period August 1, 2003, through July 31, 2004, made by Dofasco Inc., Sorevco Inc. (Sorevco), and Do Sol Galva Ltd. (collectively Dofasco), and by Stelco Inc.

We gave interested parties an opportunity to comment on our Preliminary Results. Based on our analysis of comments, we have made changes in the margin calculations. Therefore, the final results differ from the preliminary results. For the final dumping margins, see the “Final Results of Review” section below.

DATES: Effective Date: March 16, 2006.

FOR FURTHER INFORMATION CONTACT: Douglas Kirby or Joshua Reitze, AD/CVD Operations, Office 6, Import Administration, International Trade Administration, U.S. Department of Commerce, 14th Street and Constitution Avenue, NW., Washington, DC 20230; telephone (202) 482-3782 or (202) 482-0666, respectively.

SUPPLEMENTARY INFORMATION:

Background

On September 9, 2005, the Department published the Preliminary Results. The Department verified questionnaire responses from respondents. For Dofasco, the Department conducted verification of Sorevco and Dofasco only, as Do Sol Galva did not ship subject merchandise during the POR. See Preliminary Results. From October 20 through October 21, 2005, the Department conducted verification of the sales questionnaire responses provided by Sorevco for this antidumping administrative review. From October 26 through October 28, 2005, the Department conducted a verification of the sales questionnaire responses submitted by Dofasco Inc. In addition, from October 24 through October 25, 2005, the Department conducted verification of the sales questionnaire responses submitted by Stelco. Our verification results are outlined in the public and proprietary versions of the Memorandum to the File: Administrative Review of Certain Corrosion-Resistant Carbon Steel Flat Products from Canada: Verification of Sorevco Inc. (Sorevco Verification Report), Memorandum to the File: Report on the Sales Verification of Dofasco Inc. in the Eleventh Antidumping Duty Administrative Review for Certain Corrosion-Resistant Carbon Steel Flat Products from Canada (Dofasco Verification Report), and Memorandum to the File: Administrative Review of Certain Corrosion-Resistant Carbon Steel Flat Products from Canada: Verification of Stelco Inc. (Stelco Verification Report), which are on file in the Central Records Unit (CRU), room B-099 of the Main Commerce Building.

Scope of the Review

The product covered by this antidumping duty order is certain corrosion-resistant steel, and includes flat-rolled carbon steel products, of rectangular shape, either clade, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.3000, 7215.90.3000, 7215.90.5000, 7217.20.1500, 7217.30.1530, 7217.30.1560, 7217.90.1000, 7217.90.5030, 7217.90.5060, and 7217.90.5090. Although the HTS subheadings are provided for convenience and customs purposes, the written description of the merchandise is dispositive.

Include in this order are corrosion-resistant flat-rolled products of non-rectangular cross-section where such cross-section is achieved subsequent to the rolling process (i.e., products which have been “worked after rolling”)—for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

Analysis of Comments Received

We gave interested parties an opportunity to comment on our Preliminary Results following the release of our verification results for Dofasco, Sorevoco, and Stelco. The issues raised in all case and rebuttal briefs by parties to this administrative review are addressed in the Issues and Decision Memorandum for the Final Results of the Administrative Review of the Antidumping Duty Order on Certain Corrosion-Resistant Carbon Steel Flat Products from Canada, from Stephen J. Claeys to David M. Spooner, dated March 8, 2006 (Decision Memorandum), which is hereby adopted by this notice. A list of the issues discussed in the Decision Memorandum is appendid to this notice. The Decision Memorandum is on file in the CRU, and can be accessed directly on the Web at http://ia.ita.doc.gov.

Changes Since the Preliminary Results

Based on our analysis of comments received, we have corrected certain ministerial errors and made minor adjustments in the methodology that was used in the Preliminary Results concerning SAS programming errors for both Dofasco and Stelco, and disregarded Stelco's sales of off-spec, excess prime material sold through public offerings since we found them outside the ordinary course of trade. the adjustments are discussed in detail in the Decision Memorandum.

Final Results of Review

As a result of this review, we determine that the following weighted-average dumping margins exist for the period August 1, 2003, through July 31, 2004:

Manufacturer/exporter | Weighted average margin (percent)
Dofasco Inc., Sorevco, Inc., Do Sol Galva Ltd | 2.96
Stelco Inc | 3.08

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. Where the assessment rate is above de minimis, we will instruct CBP to assess duties on all entries of subject merchandise by that importer.

The Department clarified its “automatic assessment” regulation on May 6, 2003 (68 FR 23954). This clarification will apply to entries of subject merchandise during the period of review produced by companies included in these final results of reviews for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003). In accordance with 19 CFR 356.8(a), the Department will issue appropriate assessment instructions directly to CBP on or after 41 days following the date of publication of these final results of review.

Cash Deposits

Furthermore, the following deposit requirements will be effective upon publication of the final results of this adminisrative review for all shipments of corrosion-resistant carbon steel flat products from Canada entered, or withdrawn from warehouse, for consumption on or after the publication date of these final results, as provided by section 751(a) of the Act: (1) For companies covered by this review, the cash deposit rate will be the rate listed above; (2) for previously reviewed or investigated companies not listed above, the cash deposit rate will continue to be the company-specific rate published for the most recent period; (3) if the exporter is not a firm covered in this review, a prior review, or the investigation, but the producer is, the cash deposit rate will be that established for the producer of the merchandise in these final results of review, a prior review, or in the final determination; and (4) if neither the exporter nor the producer is a firm covered in this review, a prior review, or the investigation, the cash deposit rate will be 18.71 percent, the “All Others” rate established in the less-than-fair-value investigation. These deposit requirements shall remain in effect until publication of the final results of the next administrative review.

Reimbursement

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

We are issuing and publishing these results and notice in accordance with sections 751(a)(1) and 777(i)(1) of the Act.

Dated: March 8, 2006.
David M. Spooner,
Assistant Secretary for Import Administration.

Appendix

List of Issues

1. Stelco's Sales of “Excess Prime” Merchandise in the Home Market.

2. Level of Trade Analysis for Dofasco.

3. Stelco's Margin Calculation Errors.

4. Dofasco's Margin Calculation Errors.

[FR Doc. 06-2508 Filed 3-15-06; 8:45 am]

BILLING CODE 3510-DS-M